DEPARTMENT OF TRANSPORTATION

Federal Aviation Administration

14 CFR Part 39

[Docket No. FAA-2016-5247; Directorate Identifier 2015-SW-008-AD; Amendment 39-18740; AD 2016-25-14]

RIN 2120-AA64

Airworthiness Directives; Airbus Helicopters Deutschland GmbH Helicopters

AGENCY: Federal Aviation Administration (FAA), DOT.

ACTION: Final rule.

SUMMARY: We are adopting a new airworthiness directive (AD) for Airbus Helicopters Deutschland GmbH (Airbus Helicopters) Model BO-105LS A-3 helicopters. This AD requires establishing a life limit for the tension-torsion (TT) straps. This AD is prompted by an error in the Airworthiness Limitations section of the maintenance manual. These actions are intended to prevent the unsafe condition on these products.

DATES: This AD is effective January 31, 2017.

ADDRESSES: For service information identified in this final rule, contact Airbus Helicopters, 2701 N. Forum Drive, Grand Prairie, TX 75052; telephone (972) 641-0000 or (800) 232-0323; fax (972) 641-3775; or at http://www.airbushelicopters.com/techpub.

You may review the referenced service information at the FAA, Office of the Regional Counsel, Southwest Region, 10101 Hillwood Pkwy, Room 6N-321, Fort Worth, TX 76177.

Examining the AD Docket

You may examine the AD docket on the Internet at http://www.regulations.gov by searching for and locating Docket No. FAA-2016-5247; or in person at the Docket Operations Office between 9 a.m. and 5 p.m., Monday through Friday, except Federal holidays. The AD docket contains this AD, the European Aviation Safety Agency (EASA) AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 10101 Hillwood Pkwy, Fort Worth, Texas 76177; telephone (817) 222-5110; email matthew.fuller@faa.gov.

SUPPLEMENTARY INFORMATION:

Discussion

On March 25, 2016, at 81 FR 16100, the Federal Register published our notice of proposed rulemaking (NPRM), which proposed to amend 14 CFR part 39 by adding an AD that would apply to Airbus Helicopters Model BO-105LS A-3 helicopters with a TT strap part number (P/N) 2604067 or P/N 117-14110 installed. The NPRM proposed to require inspecting the helicopter records to determine if there is a life limit for the TT straps installed in the helicopter lifting system, establishing a life limit if none exists, and replacing each TT strap that has met or exceeded its life limit. The proposed requirements were intended to prevent failure of a TT strap and subsequent loss of control of a helicopter.

The NPRM was prompted by AD No. 2015-0042, dated March 9, 2015, issued by EASA, which is the Technical Agent for the Member States of the European Union, to correct an unsafe condition for the Airbus Helicopters Model BO105 LS A-3 helicopters. EASA advises that life limits have been introduced for TT strap P/N 2604067 and P/N 117-14110 installed on the helicopter lifting system. During a revision of the Airworthiness Limitations section of the Model BO105LS A-3 maintenance manual, the life limit for the TT strap was inadvertently deleted. Accordingly, EASA issued AD No. 2015-0042 to correct this error. EASA AD No. 2015-0042 requires replacing TT straps upon reaching their life limit and entering the life limit into the aircraft maintenance manual. EASA states that failure to comply with the life limit could result in an unsafe condition.

Comments

After our NPRM (81 FR 16100, March 25, 2016) was published, we received comments from one commenter.

Request

The commenter supported the NPRM but asked why the FAA proposed a drastically shorter compliance time of 20 hours time-in-service (TIS) instead of the two-month compliance time that EASA requires. We disagree that the compliance time in this AD is drastically shorter. We determined that, because of the average utilization of this model helicopter, 20 hours TIS is roughly equivalent to EASA's two-month compliance time.

FAA's Determination

These helicopters have been approved by the aviation authority of Germany and are approved for operation in the United States. Pursuant to our bilateral agreement with Germany, EASA, its technical representative, has notified us of the unsafe condition described in the EASA AD. We are issuing this AD because we evaluated all information provided by EASA, reviewed the relevant information, considered the comment received, and determined the unsafe condition exists and is likely to exist or develop on other helicopters of these same type designs and that air safety and the public interest require adopting the AD requirements as proposed.

Differences Between This AD and the EASA AD

This AD requires compliance within 20 hours TIS. The EASA AD allows two months to calculate the flight cycles or calendar time of each TT strap.

Related Service Information

Airbus Helicopters issued Alert Service Bulletin ASB BO105LS-10A-013, Revision 0, dated March 9, 2015 (ASB). The ASB specifies adding a life limit for the TT strap P/N 2604067 or 117-14110 of 25,000 flights or 10 years, whichever occurs first, in the list of life-limited parts and corresponding log cards. The ASB also states TT straps that have exceeded the retirement time must be replaced and that only TT straps that have not exceeded the retirement time may be installed.

Costs of Compliance

We estimate that this AD affects 8 helicopters of U.S. Registry. Labor costs are estimated at $85 per work hour. We estimate that it takes 2 work hours to inspect and revise the Airworthiness Limitations section and to calculate and record a life limit for the TT strap for a total cost of $170 per helicopter and $1,360 for the fleet. If a TT strap is replaced, we estimate it takes 8 work hours and $16,617 for required parts for a total cost of $17,297 per helicopter per TT strap.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-25-14 Airbus Helicopters Deutschland GmbH Helicopters: Amendment 39-18740; Docket No. FAA-2016-5247; Directorate Identifier 2015-SW-008-AD.

(a) Applicability

This AD applies to Model BO-105LS A-3 helicopters with a tension torsion (TT) strap part number (P/N) 2604067 or P/N 117-14110 installed, certificated in any category.

(b) Unsafe Condition

This AD defines the unsafe condition as a TT strap remaining in service beyond its fatigue life. This condition could result in failure of a TT strap and loss of control of a helicopter.

(c) Effective Date

This AD becomes effective January 31, 2017.

(d) Compliance

You are responsible for performing each action required by this AD within the specified compliance time unless it has already been accomplished prior to that time.

(e) Required Actions

Within 20 hours time-in-service:

(1) Inspect the Airworthiness Limitations section of the applicable maintenance manual or Instructions for Continued Airworthiness (ICA) and the component history card or equivalent record for TT strap P/N 2604067 and P/N 117-14110. Determine whether those records specify a life limit of 25,000 flights or 10 years since the date of manufacture, whichever occurs first.

(2) If the Airworthiness Limitations section of the applicable maintenance manual or ICA or the component history card or equivalent record do not specify a life limit for the TT strap, or if they specify a different life limit than in paragraph (e)(1), do the following:

(i) Revise the Airworthiness Limitations section of the applicable maintenance manual or ICA by establishing a life limit of 25,000 flights or 10 years since date of manufacture, whichever occurs first, for each TT strap P/N 2604067 and P/N 117-14110 by making pen-and-ink changes or by inserting a copy of this AD into the Airworthiness Limitations section of the maintenance manual or the ICA. For purposes of this AD, a flight would be counted anytime the helicopter lifts off into the air and then lands again regardless of the duration of the landing and regardless of whether the engine is shut down.

(ii) Create a component history card or equivalent record for each TT strap P/N 2604067 and P/N 117-14110, if one does not exist, and record a life limit of 25,000 flights or 10 years since date of manufacture, whichever occurs first.

(3) Remove from service each TT strap that has reached or exceeded its life limit.

(f) Special Flight Permits

Special flight permits are prohibited.

(g) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy, Fort Worth, Texas 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Airbus Helicopters Alert Service Bulletin ASB BO105LS-10A-013, Revision 0, dated March 9, 2015, which is not incorporated by reference, contains additional information about the subject of this AD. For service information identified in this AD, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy, Room 6N-321, Fort Worth, TX 76177.

(2) The subject of this AD is addressed in European Aviation Safety Agency (EASA) AD No. 2015-0042, dated March 9, 2015. You may view the EASA AD on the Internet at http://www.regulations.gov in Docket No. FAA-2016-5247.

(i) Subject

Joint Aircraft Service Component (JASC) Code: 6200 Main Rotor System.

Issued in Fort Worth, Texas, on December 1, 2016.
Lance T. Gant,
Manager, Rotorcraft Directorate, Aircraft Certification Service.

[FR Doc. 2016-30053 Filed 12-23-16; 8:45 am]

BILLING CODE 4910-13-P